DEPARTMENT OF COMMERCE

National Oceanic and Atmospheric Administration

[RTID 0648-XA293]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a two-day meeting via webinar of its Standing, Reef Fish, Ecosystem and Socioeconomic Scientific and Statistical Committees (SSC).

DATES: The meeting will be held on Tuesday, August 11, 2020, from 9 a.m. to 4 p.m. and Wednesday, August 12, 2020, from 9 a.m. to 12 noon, EDT.

ADDRESSES: The meeting will take place via webinar; you may register by visiting www.gulfcouncil.org and clicking on the SSC meeting on the calendar.

Council address: Gulf of Mexico Fishery Management Council, 4107 W. Spruce Street, Suite 200, Tampa, FL 33607; telephone: (813) 348-1630.

FOR FURTHER INFORMATION CONTACT: Ryan Rindone, Lead Fishery Biologist, Gulf of Mexico Fishery Management Council; ryan.rindone@gulfcouncil.org, telephone: (813) 348-1630.

SUPPLEMENTARY INFORMATION:

Tuesday, August 11, 2020; 9 a.m.-4 p.m., EDT

The meeting will begin with Introductions and Adoption of Agenda, Approval of Minutes from the July 21-23, 2020 webinar meeting, and review of Scope of Work.

The Committees will receive a Summary of Gulf State Methods and Resulting Calibrations; and, SSC Discussion and Recommendations for Alabama, Florida, Louisiana, and Mississippi.

Lunch: 12 Noon-1 p.m., Eastern Time

The Committees will review the Results of Individual State Calibrations and State Specific Annual Catch Limits; Presentation, Background Documentation, and SSC Discussion and Recommendations.

The Committees will discuss the Tasks for Gulf Transition Team: Revisiting and Updating Calibrations, Transparency in Data Delivery, Management, Accessibility, and QA & QC, Future Research, Examining Drivers for Differences between Survey Estimates, and SSC Discussion and Recommendations.

Wednesday, August 12, 2020; 9 a.m.-12 Noon, EDT

The Committees will reconvene and continue discussing items from Day 1, review Public Comments, and discuss any Other Business items.

-Meeting Adjourns

The meeting will be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues

arising after publication of this notice that require emergency action under section 305(c) of the Magnuson-Stevens Fishery Conservation and Management Act, provided the public has been notified of the Council's intent to take action to address the emergency.

Authority: 16 U.S.C. 1801 et seq.

Dated: July 22, 2020.
Tracey L. Thompson,
Acting Deputy Director, Office of Sustainable Fisheries, National Marine Fisheries Service.

[FR Doc. 2020-16178 Filed 7-24-20; 8:45 am]

BILLING CODE 3510-22-P